DEPARTMENT OF HEALTH AND HUMAN SERVICES

Food and Drug Administration

[Docket No. FDA-2011-D-0618]

Draft Guidances Relating to the Development of Biosimilar Products; Public Hearing; Request for Comments; Correction

AGENCY: Food and Drug Administration, HHS.

ACTION: Notice of public hearing; request for comments; correction.

SUMMARY: The Food and Drug Administration (FDA) is correcting a notice that appeared in the Federal Register of March 2, 2012 (77 FR 12853). The document announced a public hearing entitled “Draft Guidances Related to the Development of Biosimilar Products; Public Hearing; Request for Comments” to obtain input on recently issued draft guidances relating to the development of biosimilar products. The document published with an incorrect date for submission of electronic and written comments. This document corrects that error.

FOR FURTHER INFORMATION CONTACT: Sandra J. Benton, Center for Drug Evaluation and Research, Food and Drug Administration, 10903 New Hampshire Ave., Bldg. 51, Rm. 6340, Silver Spring, MD 20993-0002, 301-796-1042, Fax: 301-847-3529, email: biosimilarspublicmtg@fda.hhs.gov.

SUPPLEMENTARY INFORMATION: In FR Doc. 2012-5070, appearing on page 12853, in the Federal Register of Friday, March 2, 2012, the following correction is made:

On page 12853, in the second column, in the DATES section, the last sentence is corrected to read: “Electronic or written comments will be accepted after the public hearing until May 25, 2012.”

Dated: March 26, 2012.
Leslie Kux,
Assistant Commissioner for Policy.

[FR Doc. 2012-7756 Filed 3-30-12; 8:45 am]

BILLING CODE 4160-01-P